DEPARTMENT OF LABOR

Employment and Training Administration

[TA-W-60,779]

Kitty Sportswear, Inc., Leonard Slovin, d/b/a Sunshine Sportswear, Freeport, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 7, 2007, applicable to workers of Kitty Sportswear, Inc., New York, New York. The notice was published in the Federal Register on February 21, 2007 (72 FR 7908).

At the request of the State agency, the Department reviewed the certification for workers of the subject firm. The workers are engaged in the production of swimwear.

New information shows that the correct name of the subject firm should read Kitty Sportswear, Inc., Leonard Slovin, d/b/a Sunshine Sportswear, Inc. Workers separated from employment at the subject firm had their wages reported under a separate unemployment insurance (UI) tax account for Kitty Sportswear, Inc., Leonard Slovin, d/b/a Sunshine, Inc.

Accordingly, the Department is amending the certification to properly reflect this matter.

The intent of the Department's certification is to include all workers of Kitty Sportswear, Inc. who were adversely affected by customer imports.

The amended notice applicable to TA-W-60,779 is hereby issued as follows:

“All workers of Kitty Sportswear, Inc., Leonard Slovin, d/b/a Sunshine Sportswear, Inc., Freeport, New York, who became totally or partially separated from employment on or after January 16, 2006, through February 7, 2009, are eligible to apply for adjustment assistance under Section 223 of the Trade Act of 1974, and are also eligible to apply for alternative trade adjustment assistance under Section 246 of the Trade Act of 1974.”

Signed at Washington, DC, this 1st day of March 2007.
Richard Church,
Certifying Officer, Division of Trade Adjustment Assistance.

[FR Doc. E7-4580 Filed 3-13-07; 8:45 am]

BILLING CODE 4510-FN-P